DEPARTMENT OF ENERGY

Federal Energy Regulatory Commission

[Docket No. EC03-138-000, et al.]

SOWEGA Power LLC, et al.; Electric Rate and Corporate Filings

September 25, 2003.

The following filings have been made with the Commission. The filings are listed in ascending order within each docket classification.

1. SOWEGA Power LLC

[Docket Nos. EC03-138-000 and ER99-3427-003]

Take notice that on September 17, 2003, SOWEGA Power LLC (SOWEGA), filed an application pursuant to Section 203 of the Federal Power Act, part 33 of the Commission's regulations. SOWEGA requests authorization for the disposition of all of its jurisdictional assets to a new entity, Three Rivers Energy LLC, which will take assignment of, and transact under, SOWEGA's existing rate schedules. SOWEGA also informs the Commission of a change in the facts relied upon in granting it market-based rate authority as a result of the disposition of its assets, rate schedules, and tariffs to Three Rivers Energy LLC.

Comment Date: October 2, 2003.

2. Blue Spruce Energy Center, LLC

[Docket No. EG03-93-000]

On September 17, 2003, Blue Spruce Energy Center, LLC (Blue Spruce), filed with the Federal Energy Regulatory Commission (Commission) an amendment to its application for determination of exempt wholesale generator status filed on August 14, 2003. Blue Spruce states that copies of the amendment were served upon the United States Securities and Exchange Commission and Colorado Public Utilities Commission.

Comment Date: October 8, 2003.

3. Three Rivers Energy LLC

[Docket No. EG03-105-000]

Take notice that on September 17, 2003, Three Rivers Energy LLC (Three Rivers), filed with the Federal Energy Regulatory Commission an application for determination of exempt wholesale generator status pursuant to part 365 of the Commission's regulations. Three Rivers states that it owns two 50 MW (nominal summer rating) dual fuel, simple cycle, combustion turbines located in northeast Mitchell County, South of Albany, Georgia on a 34 acre site approximately one mile northeast of Georgia State Highway 93.

Comment Date: October 15, 2003.

4. MidAmerican Energy Company v. Mid-Continent Area Power Pool; Mid-Continent Area Power Pool

[Docket Nos. EL03-130-001 and ER03-972-001]

Take notice that on September 17, 2003, the Mid-Continent Area Power Pool (MAPP), filed its revised business practice on firm redirects of point-to-point transmission service under MAPP's regional transmission tariff, Schedule F. MAPP states that the filing was made in accordance with the Commission's Order in MidAmerican Energy Company v. Mid-Continent Area Power Pool, 104 FERC ¶ 61,212.

MAPP states that a copy of this filing has been served on all MAPP members and the state commissions in the MAPP region as well as all parties listed in Docket Nos. EL03-130-000 and ER03-972-000. MAPP further states that this filing is posted on their Web site at http://www.mapp.org.

Comment Date: October 17, 2003.

5. Entergy Services, Inc., Complainant v. Wrightsville Power Facility, LLC, Respondent

[Docket Nos. EL03-232-000 ER03-1378-000]

Take notice that on September 23, 2003, Entergy Services, Inc., (Entergy) on behalf of Entergy Arkansas, Inc., Entergy Gulf States, Inc., Entergy Louisiana, Inc., Entergy Mississippi, Inc., and Entergy New Orleans, Inc., (collectively, the Entergy Operating Companies) filed a Complaint against Wrightsville Power Facility, LLC (Wrightsville) wherein Entergy requests the Commission to order Wrightsville to forego $3,115,331.59 (plus interest) worth of transmission credits to which Wrightsville is otherwise entitled because of its financing of certain Optional System Upgrades pursuant to its Interconnection and Operating Agreement with Entergy in order to compensate Entergy for Wrightsville's default on its Generator Imbalance Agreement (GIA) liabilities. Alternatively, Entergy requests the Commission to approve Entergy's suspension of Wrightsville's GIA service.

Entergy states that copies of this Complaint have been served upon Wrightsville.

Comment Date: October 14, 2003.

6. Northeast Utilities Service Company

[Docket No. ER01-1261-002]

Take notice that on September 17, 2003 the Northeast Utilities Service Company (NUSCO), on behalf of The Connecticut Light and Power Company (CL&P), supplemented its July 21, 2003 filing Docket No. ER01-1261-001 by submitting a revised Licensing, Engineering and Construction Agreement (Construction Agreement) between CL&P and Milford Power Company LLC (Milford). NUSCO requests a July 21, 2003 effective date for the revised Construction Agreement and Associated Interconnection Agreement is requested.

NUSCO states that a copy of this filing has been mailed to Milford and those parties identified on the official service list in this proceeding.

Comment Date: October 8, 2003.

7. Energy Cooperative of New York, Inc.

[Docket No. ER03-1294-000]

Take notice that on September 4, 2003, Energy Cooperative of New York, Inc., (ECNY) submitted for filing a Notification of a Change of name of Energy Cooperative of Western New York, Inc., to Energy Cooperative of New York, Inc.

Comment Date: October 8, 2003.

8. Empire Connection LLC

[Docket No. ER03-1353-000]

Take notice that on September 11, 2003, Empire Connection LLC (EC) submitted for filing its FERC Electric Tariff, Original Volume No. 1 pursuant to the authorization to sell transmission rights at negotiated rates granted in Conjunction LLC, 103 FERC ¶ 61,198, and EC's Procedures for Implementation of Standards of Conduct and the Standards of Conduct required under Order No. 889.

Comment Date: October 2, 2003.

9. Northeast Utilities Service Company

[Docket No. ER03-1355-000]

Take notice that on September 26, 2003, Northeast Utilities Service Company (NUSCO) on behalf of The Connecticut Light and Power Company, Western Massachusetts Electric Company, Holyoke Water Power Company, Public Service Company of New Hampshire, (together the NU Operating Companies) and Select Energy, Inc. (Select), submitted pursuant to Section 205 of the Federal Power Act and part 35 of the Commission's regulations rate schedule modifications for sales of electricity to the Middleton Municipal Electric Department of Middleton, Massachusetts (Middleton). In addition, NUSCO submitted a Notice of Termination of the rate schedules for sales of electricity to Middleton which terminate by their own terms on October 31, 2003.

NUSCO states that a copy of this filing has been mailed to Middleton and Select. NUSCO requests that the rate schedule modifications become effective on March 1, 2003.

Comment Date: October 8, 2003.

10. Enermetrix.com

[Docket No. ER03-1356-000]

Take notice that on September 17, 2003, Enermetrix.com tendered for filing a Notice of Cancellation of it Market-based Rate Authority under Docket No. ER00-1973-000. Enermetrix.com is requesting an effective date of January 2002.

Enermetrix.com states that it underwent a stock purchase by CES International, Inc., in May 2002. Enermetrix .com further states that the company has ceased operations and no transactions to buy or sell energy ever occurred.

Comment Date: October 8, 2003.

11. California Independent System Operator Corporation

[Docket No. ER03-1357-000]

Take notice that, on September 17, 2003, the California Independent System Operator Corporation (ISO) submitted an informational filing as to the ISO's updated Transmission Access Charge rates effective as of August 13, 2003.

The ISO states that this filing has been served upon the Public Utilities Commission of the State of California, the California Energy Commission, the California Electricity Oversight Board, the Participating Transmission Owners, and upon all parties with effective Scheduling Coordinator Service Agreements under the ISO Tariff. In addition, the ISO is posting the filing on the ISO Home Page.

Comment Date: October 8, 2003.

12. Three Rivers Energy LLC

[Docket No. ER03-1358-000]

Take notice that on September 17, 2003, Three Rivers Energy LLC tendered for filing an Assignment Agreement relating to assignment to it of the rights and responsibilities of SOWEGA Power LLC under the Second Amended and Restated Common Bus Ownership Agreement with Baconton Power LLC. Three Rivers Energy LLC states that this rate schedule is designated as Three Rivers Energy LLC FERC Rate Schedule No. 1.

Comment Date: October 8, 2003.

13. Central Hudson Gas & Electric Corporation

[Docket No. ER03-1359-000]

Take notice that on September 17, 2003, Central Hudson Gas & Electric Corporation (Central Hudson) tendered for filing a Notice of Cancellation of Rate Schedule FERC No. 69.

Central Hudson requests waiver on the notice requirements set forth in 18 CFR 35.15 of the regulations to permit the cancellation to be effective October 31, 2003. Central Hudson states that a copy of its filing was served on the New York Power Authority and the New York Public Service Commission.

Comment Date: October 8, 2003.

14. California Independent System Operator Corporation

[Docket No. ER03-1360-000]

Take notice that on September 17, 2003, the California Independent System Operator Corporation (ISO) submitted for filing and acceptance a Utility Distribution Company Operating Agreement (UDC Operating Agreement) between the ISO and the Westside Power Authority (WPA) as a non-conforming agreement The ISO requested waiver of the Commission's 60-day prior notice requirement to allow the UDC Operating Agreement to be made effective contingent on and no sooner than the asset purchase closing date as specified in the UDC Operating Agreement. WPA has requested this flexible effective date arrangement to facilitate the commencement of operations as a UDC under the UDC Operating Agreement.

Comment Date: October 8, 2003.

15. Guardian Pipeline, L.L.C.

[Docket No. MG03-6-000]

On September 5, 2003, Guardian Pipeline, L.L.C. (Guardian) filed standards of conduct under part 161 of the Commission's regulations, 18 CFR part 161 (2003).

Guardian Pipeline, L.L.C. states that it served copies of the filing on all customers and interested state commissions.

Comment Date: October 10, 2003.

16. Hershey Foods Corporation

[Docket Nos. QF85-250-001 and ER03-1159-000]

Take notice that on September 22, 2003, Hershey Foods Corporation (Hershey) tendered for filing that its Oakdale, California cogeneration facility, previously certified as a qualifying cogeneration facility under the Public Utility Regulatory Policies Act, is not currently being operated in a manner that satisfies the Qualifying Facility operating and efficiency standards specified in the Commission regulations, 18 CFR 292.205. Hershey requests that the Commission accept this withdrawal of certification.

Comment Date: October 22, 2003.

17. Three Rivers Energy LLC

[Docket No. RT03-2-000]

Take notice that on September 17, 2003, Three Rivers Energy LLC filed an abbreviated alternate filing pursuant to Sections 35.34 (c) (2) and 35.34(g) of the Commission's regulations.

Comment Date: October 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-25018 Filed 10-2-03; 8:45 am]

BILLING CODE 6717-01-P